TENNESSEE VALLEY AUTHORITY

Meeting of the Regional Resource Stewardship Council

AGENCY: Tennessee Valley Authority (TVA).

ACTION: Notice of meeting.

SUMMARY: The Regional Resource Stewardship Council (Regional Council) will hold a meeting to consider various matters. Notice of this meeting is given under the Federal Advisory Committee Act, 5 U.S.C. App. 2, (FACA).

The meeting agenda includes the following briefings:

1. Feedback from TVA on the Recommendations Submitted to the TVA Board of Directors

2. Recommendation on Appropriations Funding of TVA Nonpower Programs

3. Recommendation from the Water Quality Subcommittee on Water Use Management

4. Public Comments

5. Progress Report on the Reservoir Operations Study

6. Discussion of Recommendations

7. Status of the Council Report from TVA

It is the Regional Council's practice to provide an opportunity for members of the public to make oral public comments at its meetings. Public comment session is scheduled from 1 to 2 p.m. Central time. Members of the public who wish to make oral public comments may do so during the Public comment portion of the agenda. Up to one hour will be allotted for the Public comments with participation available on a first-come, first-served basis. Speakers addressing the Council are requested to limit their remarks to no more than 5 minutes. Persons wishing to speak register at the door and are then called on by the Council Chair during the public comment period. Handout materials should be limited to one printed page. Written comments are also invited and may be mailed to the Regional Resource Stewardship Council, Tennessee Valley Authority, 400 West Summit Hill Drive, WT 11A, Knoxville, Tennessee 37902.

DATES: The meeting will be held on Thursday, January 31, 2002, from 8 a.m. to 4:30 p.m. Central Standard Time. Public comments are scheduled to begin at 1 p.m., ending by 2 p.m. Central Time.

ADDRESSES: The meeting will be held at the Huntsville Marriott, 5 Tranquility Base, Huntsville, Alabama 35805, and will be open to the public. Anyone needing special access or accommodations should let the contact below know at least a week in advance.

FOR FURTHER INFORMATION CONTACT: Sandra L Hill, 400 West Summit Hill Drive, WT 11A, Knoxville, Tennessee 37902, (865) 632-2333.

Dated: January 3, 2002.
Kathryn J. Jackson,
Executive Vice President, River System Operations and Environment, Tennessee Valley Authority.

[FR Doc. 02-611 Filed 1-9-02; 8:45 am]

BILLING CODE 8120-08-P